DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Regional Economic Data Collection Program for Southeast Alaska.

OMB Control Number: None.

Form Number(s): NA.

Type of Request: Regular submission (request for review of a new collection).

Number of Respondents: 394.

Average Hours per Response: Mail surveys and follow-up telephone interviews, 20 minutes; interviews with key informants, 40 minutes.

Burden Hours: 148.

Needs and Uses: This request is for review of a new information collection. The regional or community economic analysis of proposed fishery management policies is required by the Magnuson-Stevens Fishery Conservation and Management Act, National Environmental Policy Act, and Executive Order 12866, among others. To satisfy these mandates and inform policymakers and the public of the likely regional economic impacts associated with fishery management policies, appropriate economic models and the data to implement them are needed.

Much of the data required for regional economic analysis associated with Southeast Alaska fisheries are either unavailable or unreliable. Accurate fishery-level data on employment, labor income, and expenditures in the Southeast Alaska fishery and related industries are not currently available but are needed to estimate the effects of fisheries on the economy of Southeast Alaska. In this planned survey effort, data on these important regional economic variables will be collected and used to develop models that will provide more reliable estimates and significantly improve policymakers' ability to assess policy effects on fishery-dependent communities in Southeast Alaska. The survey will be conducted one-time only. The survey (mailed) will request data on employment, labor payments, and other expenditures from owners of 1,700 vessels that delivered fish to Southeast Alaska processors in 2009.

Affected Public: Business or other for-profit organizations.

Frequency: One time.

Respondent's Obligation: Voluntary.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 10, 2010.
Gwellnar Banks,
Management Analyst, Office of the Chief Information Officer.

[FR Doc. 2010-20127 Filed 8-13-10; 8:45 am]

BILLING CODE 3510-22-P